DEPARTMENT OF ENERGY

Office of Energy Efficiency and Renewable Energy

Notice of Intent To Establish the Advisory Board on Electricity

Pursuant to section 9(a)(2) of the Federal Advisory Committee Act (Pub. L. 92-463), and in accordance with title 41 of the Code of Federal Regulations, section 101-6.1015(a), this is notice of intent to establish the Advisory Board on Electricity. This intent to establish follows consultation with the Committee Management Secretariat of the General Services Administration, pursuant to 41 CFR subpart 101-6.10.

The purpose of the Board is to provide the Secretary of Energy and his designee(s) with advice, information, and recommendations on issues, policies, and programs related to the electric utility sector. The Board will: (1) Provide advice to the Department of Energy on electricity policy issues of concern to the Department; (2) advise the Department on supply and delivery systems (generation, transmission, and distribution) issues; (3) provide advice on market structure and barriers to construction of new generation and transmission facilities and make recommendations on policy and Department initiatives with respect to issues identified; (4) advise the Department on coordination of electricity supply and reliability issues and initiatives with appropriate private sector, state, and regional officials, and other stakeholders; and (5) advise the Department on coordinated response in the event of electricity supply emergencies.

Board members will be chosen to ensure an appropriately balanced membership to bring into account a diversity of viewpoints, including electric power generators, transmitters, and distributors; state policy officials and regulators; consumers; the environmental community; and others who may significantly contribute to the deliberations of the Board. Advance notice of all meetings of the Board will be published in the Federal Register.

The establishment of the Advisory Board on Electricity is essential to the conduct of Department of Energy business and is in the public interest.

Further information regarding this board may be obtained from Lawrence Mansueti, Office of Power Technologies, Office of Energy Efficiency and Renewable Energy, U.S. Department of Energy, Washington, DC 20585, phone (202) 586-9275.

Issued in Washington, D.C. on May 24, 2001
James N. Solit,
Advisory Committee Management Officer.

[FR Doc. 01-13516 Filed 5-29-01; 8:45 am]

BILLING CODE 6450-01-P